DEPARTMENT OF COMMERCE

National Oceanic and Atmospheric Administration

RIN 0648-XR52

Marine Mammals; File No. 14534

AGENCY: National Marine Fisheries Service (NMFS), National Oceanic and Atmospheric Administration (NOAA), Commerce.

ACTION: Notice; issuance of permit amendment.

SUMMARY: Notice is hereby given that NOAA's Office of Science and Technology, Silver Spring, MD, (Brandon Southall, Ph.D.—Principal Investigator) has been issued a minor amendment to Scientific Research Permit No. 14534-02.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Courtney Smith or Howard Goldstein, (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (ESA; 16 U.S.C. 1531 et seq.), and the regulations governing the taking, importing, and exporting of endangered and threatened species (50 CFR parts 222 through 226).

The original permit (No. 14534), issued on July 2, 2010 (75 FR 39665) through June 30, 2015 authorized research on a variety of marine mammals, and involves temporarily attaching individual recording tags to measure vocalization, diving and other behaviors, and physiological parameters before, during, and after carefully controlled exposures of sound in conventional playback experiments. The research is focused in the waters within the U.S. Navy's Southern California Range Complex, and primarily near the vicinity of San Clemente Island. A minor amendment to the permit (No. 14534-01) was issued on August 30, 2010 to combine long-beaked common dolphins and short-beaked common dolphins into a single “unidentified common dolphin” category for takes by harassment incidental to the playbacks.

A second, major amendment (No. 14534-02) was issued on May 14, 2012 (77 FR 33199) that added endangered humpback whales (Megaptera novaengliae) as an additional focal species for tagging and intentional exposure to sound playbacks with associated behavioral observations. The amendment also increased the number of non-ESA listed minke whales (Balaenoptera acutorostrata) and killer whales (Orcinus orca) that may be harassed annually.

The current minor amendment (No. 14534-03) extends the duration of the permit through June 30, 2016, but does not change any other terms or conditions of the permit.

Dated: July 9, 2015.
Julia Harrison,
Chief, Permits and Conservation Division, Office of Protected Resources, National Marine Fisheries Service.

[FR Doc. 2015-17349 Filed 7-14-15; 8:45 am]

BILLING CODE 3510-22-P